DEPARTMENT OF HOMELAND SECURITY

U.S. Customs and Border Protection

Extension and Modification of the National Customs Automation Program Test Concerning the Submission Through the Automated Commercial Environment of Certain Unique Entity Identifiers for the Global Business Identifier Evaluative Proof of Concept

AGENCY: U.S. Customs and Border Protection, Department of Homeland Security.

ACTION: General notice.

SUMMARY: On July 21, 2023, U.S. Customs and Border Protection (CBP) published a notice in the Federal Register extending and modifying a National Customs Automation Program Test concerning the submission of unique entity identifiers for the Global Business Identifier (GBI) Evaluative Proof of Concept (EPoC). This document republishes and supersedes the notice published on July 21, 2023, announces an extension of the test period through February 23, 2027, notes a clarification in the purpose and scope of the GBI EPoC, and removes commodity and country of origin limitations on the entries eligible for the test. In addition, this document makes changes to the contact information for questions regarding the test, provides new web addresses dedicated to obtaining GBIs, and makes minor technical changes.

DATES: The GBI EPoC commenced on December 19, 2022, and will continue through February 23, 2027, subject to any extension, modification, or early termination as announced in the Federal Register. CBP began to accept requests from importers of record and licensed customs brokers to participate in the test on December 2, 2022, and CBP will continue to accept such requests until the GBI EPoC concludes. Public comments on the test are invited and may be submitted to the address set forth below, at any time during the test period.

FOR FURTHER INFORMATION CONTACT: For policy-related questions, contact Garrett Wright, Director, Trade Modernization Division, Trade Policy and Programs Directorate, Office of Trade, U.S. Customs and Border Protection, at (202) 897-9877 or via email at GBI@cbp.dhs.gov, with a subject line reading “Global Business Identifier Test-GBI.” For technical questions related to the Automated Commercial Environment (ACE) or Automated Broker Interface (ABI) transmissions, software vendors, importers of record, and licensed customs brokers should contact their assigned ACE or ABI client representatives, respectively. Interested parties without an assigned client representative should direct their questions to Steven Zaccaro, Client Services Division, Office of Trade, U.S. Customs and Border Protection, at (571) 358-7809 or via email at clientrepoutreach@cbp.dhs.gov.

SUPPLEMENTARY INFORMATION: On December 2, 2022, U.S. Customs and Border Protection (CBP) published a General Notice (the December 2 Notice) in the Federal Register (87 FR 74157) announcing a National Customs Automation Program (NCAP) Test concerning the submission through the Automated Commercial Environment (ACE) of certain unique entity identifiers for the Global Business Identifier (GBI) Evaluative Proof of Concept (EPoC). On July 21, 2023, CBP published a General Notice (the July 21 Notice) in the Federal Register (88 FR 47154) extending and modifying the December 2 Notice. Specifically, the July 21 Notice extended the test period from July 21, 2023, through February 14, 2024; provided the correct web address for interested parties to use to obtain the Legal Entity Identifier (LEI) from the Global Legal Entity Identifier Foundation (GLEIF); and clarified that CBP would allow participants to provide one or more of the three identifiers for the manufacturers, shippers, and sellers (and optionally, exporters, distributors, and packagers) of merchandise, and that CBP would not require transmission of all three identifiers to participate in the test. This document republishes and supersedes the July 21 Notice, with the following modifications.

First, the test period has been extended from February 14, 2024, through February 23, 2027. Second, CBP made changes to Sections I.B. (Global Business Identifier Evaluative Proof of Concept (GBI EPoC)) and VI. (Evaluation Criteria) to clarify the purpose and scope of the test. CBP will continue to assess the functionality and effectiveness of universal global business identifiers to address data gaps caused by the unreliability of the manufacturer or shipper identification code (MID), in addition to exploring opportunities to enhance supply chain traceability and visibility more broadly—including examining how CBP, Partner Government Agencies (PGAs), and the trade industry might leverage GBIs to comply with growing supply chain traceability requirements.

Third, CBP has expanded the GBI EPoC to include entries of merchandise classifiable in any subheading of the Harmonized Tariff Schedule of the United States (HTSUS) and entries of imported merchandise from any country of origin. When CBP initially launched the GBI EPoC, the test was limited to entries of merchandise in five (5) categories (alcohol, toys, seafood, personal items, and medical devices), and to merchandise with 10 countries of origin (Australia, Canada, China, France, Italy, Mexico, New Zealand, Singapore, United Kingdom, and Vietnam). These requirements significantly limited the range of entries that could be evaluated under the test. As a result, CBP is removing these test limitations. It is important to note that the test continues to be limited to type 01 (formal) and type 11 (informal) entries.

Fourth, as noted in the FOR FURTHER INFORMATION CONTACT section above, the office responsible for the GBI EPoC has changed (it is no longer the Interagency Collaboration Division, Trade Policy and Programs Directorate, Office of Trade, but is now the Trade Modernization Division, Trade Policy and Programs Directorate, Office of Trade), and the point of contact for interested parties without an assigned client representative who have technical questions has changed. Fifth, GS1 and Dun & Bradstreet have created specific web pages dedicated to the GBI EPoC for obtaining a GBI; Section III.A. (Obtaining Global Business Identifier (GBI) Numbers) has been updated to include the new web addresses for the dedicated GBI web pages. Lastly, CBP has made minor technical changes to Sections V. (Paperwork Reduction Act) and VI. (Evaluation Criteria).

For ease of reference, the July 21 Notice is republished below, with the changes described above.

I. Background

A. The National Customs Automation Program

The National Customs Automation Program (NCAP) was established by Subtitle B of Title VI—Customs Modernization, in the North American Free Trade Agreement Implementation Act (Customs Modernization Act) (Pub. L. 103-182, 107 Stat. 2057, 2170, December 8, 1993) (19 U.S.C. 1411). Through the NCAP, the thrust of customs modernization was focused on informed trade compliance and the development of the Automated Commercial Environment (ACE), the planned successor to the Automated Commercial System (ACS). ACE is an automated and electronic system for commercial trade processing, intended to streamline business processes, facilitate growth in trade, ensure cargo security, and foster participation in global commerce, while facilitating compliance with U.S. laws and regulations and reducing costs for U.S. Customs and Border Protection (CBP) and all of its communities of interest. The ability to meet these objectives depends on successfully modernizing CBP's business functions and the information technology that supports those functions. CBP's modernization efforts are accomplished through phased releases of ACE component functionality, which update the system and add new functionality.

Sections 411 through 414 of the Tariff Act of 1930 (19 U.S.C. 1411-1414), as amended, define and list the existing and planned components of the NCAP (Section 411), promulgate program goals (Section 412), provide for the implementation and evaluation of the program (Section 413), and provide for Remote Location Filing (Section 414). Section 411(a)(1)(A) lists the electronic entry of merchandise, Section 411(a)(1)(B) lists the electronic entry summary of required information, and Section 411(a)(1)(D) lists the electronic transmission of manifest information, as existing NCAP components. Section 411(d)(2)(A) provides for the periodic review of data elements collected in order to update the standard set of data elements, as necessary.

B. Global Business Identifier Evaluative Proof of Concept (GBI EPoC)

ACE is the system through which the U.S. Government has implemented the “Single Window,” the primary system for processing trade-related import and export data required by the PGAs that work alongside CBP in regulating specific commodities. The transition away from paper-based procedures has resulted in faster, more streamlined processes for both the U.S. Government and industry. To continue this progress, CBP began working with the Border Interagency Executive Council (BIEC) and the Commercial Customs Operations Advisory Committee (COAC), starting in 2017, to discuss the continuing viability of the data element known as MID.

Currently, importers of record provide the MID at the time of filing of the entry summary. See generally 19 CFR part 142. The 13-digit MID is derived from the name and address of the manufacturer or shipper, as specified on the commercial invoice, by applying a code constructed pursuant to instructions specified by CBP. See Customs Directive No. 3550-055, dated November 24, 1986 (available online at https://www.cbp.gov/sites/default/files/documents/3550-055_3.pdf). Although use of the MID has served CBP and the international trade community well in the past, it has become apparent that the MID is not always a consistent or unique number. For example, the MID is based upon the manufacturer or shipper name, address, and country of origin, and this data can change over time and/or result in the same MID for multiple entities. Also, while the MID provides limited identifying information, other global unique identifiers capture a broader swath of pertinent information regarding the entities with which they are associated (e.g., legal ownership of businesses, specific business and global locations, and supply chain roles and functions). Changes in international trade and technology for tracking the flow of commodities have presented an opportunity for CBP and PGAs to explore new processes and procedures for identifying the parties involved in the supply chains of imported goods.

CBP has thus engaged in regular outreach with stakeholders, including, but not limited to, importers of record, licensed customs brokers, trade associations, and PGAs, with a goal of obtaining meaningful feedback on their existing systems and operations in order to establish a mutually beneficial global entity identifier system. As a result of these discussions, CBP developed the Global Business Identifier Evaluative Proof of Concept (GBI EPoC), which is an interagency trade transformation project that aims to test global business identifiers as a supply chain traceability solution, for industry and the U.S. Government alike. The GBI EPoC seeks to amplify the U.S. Government's visibility into the supply chain of goods entering the U.S. and explore opportunities for CBP and PGAs to leverage verifiable information regarding parties in the supply chain to improve risk assessment and admissibility decisions.

For purposes of the GBI EPoC, ACE has been modified to permit test participants to provide the following entity identifiers (GBIs) associated with manufacturers, shippers, and sellers of merchandise covered by entries that meet the GBI EPoC criteria: nine (9)-digit Data Universal Numbering System (D-U-N-S®), thirteen (13)-digit Global Location Number (GLN), and/or twenty (20)-digit Legal Entity Identifier (LEI). The GBIs will be provided in addition to other required entry data (which may include the MID); any GBIs associated with the importer of record itself need not be provided as part of this test. The GBIs associated with the manufacturers, shippers and sellers will be provided with the CBP Form 3461 (Entry/Immediate Delivery) data transmission via the Automated Broker Interface (ABI) in ACE for formal entries for consumption (“entry type 01” in ACE) and informal entries (“entry type 11” in ACE). CBP will then access the underlying data (GBI data) associated with the D-U-N-S®, GLN, and LEI, as set forth in the agreements that CBP has entered into with Dun & Bradstreet (D&B), GS1, and the Global Legal Entity Identifier Foundation (GLEIF), respectively, in order to connect a specific entry and merchandise to a more complete picture of those entities' ownership, structure, and affiliations, among other information. D&B, GS1, and GLEIF are collectively referred to as the identity management companies (IMCs).

Through the GBI EPoC, CBP aims to leverage existing entity identifiers—the D-U-N-S®, GLN, and LEI—to develop a systematic, accurate, and efficient method for the trade to report, and the U.S. Government to uniquely identify, legal business entities, their different business locations and addresses, and their various functions and supply chain roles. CBP will consider whether these three GBIs, singly, or in concert, ensure that CBP and PGAs receive standardized trade data in a universally compatible trade language. Moreover, CBP will examine whether the GBIs submitted to CBP can be easily verified, thus reducing uncertainties that may be associated with the information related to shipments of imported merchandise. CBP will also consider whether the GBI EPoC may ultimately prove to be a more far-reaching, interagency initiative, one that keeps with the vision and actualized promise of the “Single Window,” by providing better visibility into the supply chain for CBP and PGAs, thereby further reducing paper processing, expediting cargo release, and enhancing the traceability of supply chains.

II. Authorization for the Test

The Customs Modernization Act authorizes the Commissioner of CBP to conduct limited test programs or procedures designed to evaluate planned components of the NCAP. The GBI EPoC is authorized pursuant to 19 CFR 101.9(b), which provides for the testing of NCAP programs or procedures. See T.D. 95-21, 60 FR 14211 (March 16, 1995).

III. Conditions for the Test

The test is voluntary, and importers of record and licensed customs brokers who wish to participate in the test must comply with all of the conditions set forth below. The full effect of access to additional entity-related data based on submission of the GBIs will be a key evaluation metric of the test.

Participation in the test will provide test participants with the opportunity to test and give feedback to CBP on the GBI EPoC design and scope. Participation may also enable test participants to establish and test their digital fingerprints, such as more accurately identifying certain parties involved in their supply chains. In addition, participation may allow the trade community to better manage and validate their data and streamline their import data collection processes. Lastly, test participation may allow for the wider application of entity identifiers that are currently providing broad sector coverage and enhanced data analysis.

A. Obtaining Global Business Identifier (GBI) Numbers

Importers of record and licensed customs brokers who are interested in participating in the test must arrange to obtain any combination of the required D-U-N-S®, GLN, and/or LEI entity identifiers (the GBIs) from the manufacturers, shippers, and sellers of merchandise that are intended to be covered by future entries that will meet the conditions of the test (commodity + country of origin). For purposes of providing the information required for the test, the parties are defined as follows for each covered entry:

• Manufacturer (or supplier)—The party that last manufactures, assembles, produces, or grows the goods or the party supplying the finished goods in the country from which the goods are leaving for the United States.

• Shipper—The party that enters into a contract for carriage with, and arranges for delivery of the goods to, a carrier or transport intermediary for transportation to the United States.

• Seller—The last known party by whom the goods are sold or agreed to be sold. If the goods are to be imported otherwise than in pursuance of a purchase, the owner of the goods must be provided.

Optionally, test participants may also arrange to obtain the GBIs for exporters, distributors, and packagers that will be associated with these future entries and provide them to CBP on qualifying entries covered by this test.

A party may obtain its own GBI by contacting Dun and Bradstreet (D&B) at https://support.dnb.com/?cust=CustomsBorderProtection, regarding the D-U-N-S®; GS1 at https://www.gs1us.org/industries-and-insights/by-industry/government-and-public-sector/gs1-us-and-customs-and-border-protection, regarding the GLN; and the Global Legal Entity Identifier Foundation (GLEIF) at https://www.gleif.org/en/about-lei/get-an-lei-find-lei-issuing-organizations, regarding the LEI.

Once the manufacturers, shippers, and sellers (and, optionally, the exporters, distributors, and packagers) have obtained their own GBIs (the D-U-N-S®, GLN, and LEI), these parties should provide the resulting GBIs to the relevant importer of record or licensed customs broker participating in the test. If these parties experience any difficulty with obtaining any of the GBIs, the importer of record or licensed customs broker seeking to participate in the test should reach out to CBP by email at GBI@cbp.dhs.gov. The test participant is not required to obtain or submit GBIs pertaining to its own entity.

Importers of record and licensed customs brokers are reminded that they are responsible for obtaining any necessary permissions with respect to providing to CBP the GBIs for manufacturers, shippers, and sellers (and, optionally, for exporters, distributors, and packagers) in the supply chains of the imported merchandise for which they file the specified types of entries subject to the conditions of the test. Therefore, prior to submitting their request to participate in the test to CBP, as discussed below, importers of record and licensed customs brokers should consult with the applicable parties to ensure that these parties are willing to grant any necessary permissions to share their GBIs (which will also result in CBP's access to the underlying GBI data associated with those GBIs, as described above) with CBP under the auspices of the test.

B. Submission of Request To Participate in the GBI EPoC

The test is open to all importers of record and licensed customs brokers provided that these parties have requested permission and are approved by CBP to participate in the test. Importers of record and licensed customs brokers seeking to participate in the test should email the GBI Inbox (GBI@cbp.dhs.gov) with the subject heading “Request to Participate in the GBI EPoC.” As part of their request to participate, importers of record and licensed customs brokers must agree to provide available GBIs with entry filings for merchandise that is subject to the conditions of the test and state that they intend to participate in the test. The request must include the potential participant's filer code and evidence that it has obtained at least one of the three identifiers (D-U-N-S®, GLN, and LEI), or is in the process of obtaining an identifier, from the manufacturers, shippers, and sellers (and, optionally, exporters, distributors, and packagers) of merchandise to be entered pursuant to the test.

Test participants who are importers of record and do not self-file must advise CBP in their request that they have authorized their licensed customs broker(s) to file qualifying entries under the test on their behalf. Test participants who are licensed customs brokers must advise CBP that they have been authorized to file qualifying entries on behalf of importers of record whose shipments meet the test criteria as set forth below.

CBP began accepting requests to participate in the test on December 2, 2022, and will continue to accept them until the test concludes. Anyone providing incomplete information, or otherwise not meeting the test requirements, will be notified by email, and given the opportunity to resubmit the request to participate in the test.

C. Approval of GBI EPoC Participants

A party who wishes to participate in this test is eligible to do so as long as it is an importer of record or licensed customs broker who files type 01 (formal) or type 11 (informal) entries of merchandise, and that party obtains the required GBIs from its supply chain partners. After receipt of a request to participate in the test, CBP will notify, by email, the importers of record and licensed customs brokers who are approved for participation and inform them of the starting date of their participation (noting that test participants may have different starting dates). Test participants must provide the GBIs they have received to CBP prior to the starting date of their participation (participants will also provide the GBIs to CBP again with each qualified entry filing meeting the requirements of the test). Test participants are considered to be bound by the terms and conditions of this notice and any subsequent modifications published in the Federal Register.

D. Criteria for Qualifying Entries

1. Commodities Subject to the GBI EPoC

The test will be limited to type 01 and type 11 entries, but is open to merchandise classifiable in any subheading of the HTSUS. Test participants are encouraged to submit GBIs with all qualified entry filings that meet the conditions of the test so that CBP has a fulsome data set to evaluate; however, entries will not be rejected if GBIs are not submitted.

2. Countries of Origin Subject to the GBI EPoC

The test is open to merchandise from any country of origin.

E. Filing Entries With GBIs (Via ABI in ACE)

Test participants must coordinate with their software vendors or technical teams to ensure that their electronic systems are capable of transmitting the D-U-N-S®, GLN, and LEI entity identifiers to CBP. During this test, CBP will only accept electronic submissions of GBIs via ABI in ACE with CBP Form 3461 (Entry/Immediate Delivery) filings for type 01 and type 11 entries. Upon selection to participate in the test, the test participants will be provided with technical information and guidance regarding the transmission of the GBIs to CBP with the CBP Form 3461 filings. The assigned ABI client representatives of the test participants will provide additional technical support, as needed.

F. CBP Access to Underlying GBI Data Associated With GBIs

As part of the test, CBP has entered into agreements with D&B, GS1, and GLEIF (the IMCs) for limited access to the underlying data (GBI data) that is associated with the GBIs for the duration of the test and for testing of CBP's automated systems.¹ The data elements for which CBP has entered into agreements with D&B, GS1, and GLEIF may include, but are not limited to: (1) entity identifier numbers, (2) official business titles; (3) names; (4) addresses; (5) financial data; (6) trade names; (7) payment history; (8) economic status; and (9) executive names. The data elements will be examined as part of the test.

¹ As noted above, D&B, GS1, and GLEIF are IMCs. The GBI data consists of data provided by the relevant entity to the IMCs in order to generate a GBI—the D-U-N-S®, GLN, or LEI. GBIs allow CBP to link the underlying GBI data to specific entities and entries.

Consistent with the agreements, CBP may access GBI data, combine it with CBP data, and evaluate the GBIs that the test participants provide with an entry filing. The GBI data will assist CBP and PGAs in determining the optimal combination of the three entity identifiers (the GBIs) that will provide the U.S. Government with sufficient entity data needed to support identification, monitoring, and enforcement procedures to better equip the U.S. Government to focus on high-risk shipments and bad actors.

CBP will process entries submitted pursuant to the test by analyzing the GBIs submitted via ABI in ACE and ensuring that the GBIs are submitted correctly. CBP will then evaluate the submitted entries to assess the ease and cost of obtaining each of the GBIs, evaluating each GBI to ensure that it is being submitted properly per the technical requirements that will be set forth in CBP and Trade Automated Interface Requirements (CATAIR), and ensuring that CBP is able to validate that each GBI is accurate using the underlying GBI data from the IMCs or otherwise known to CBP.

G. Partner Government Agencies (PGAs)

PGAs are important to the success of the test. Certain PGAs, which may receive GBIs and GBI data and are intended as core test beneficiaries, may use the GBIs and GBI data to improve risk management and import compliance. This may result in smarter, more efficient, and more effective compliance efforts. CBP will announce the PGAs who will receive GBIs and GBI data pursuant to the test in a notice to be published in the Federal Register at a later date.

H. Duration of Test

The test began on December 19, 2022, and will run through February 23, 2027, subject to any extensions, modifications or early termination as announced by way of a notice to be published in the Federal Register.

I. Misconduct Under the Test

Misconduct under the test may include, but is not limited to, submitting false GBIs with an entry filing. Currently, CBP does not plan to assess penalties against GBI EPoC participants that fail to timely and accurately submit GBIs during the test. CBP also does not anticipate shipment delays due to the failure to file or the erroneous filing of GBIs. However, test participants are expected to follow all other applicable regulations and requirements associated with the entry process.

After an initial six-month period (or at such earlier time as CBP deems appropriate), a test participant may be subject to discontinuance from participation in this test for any of the following repeated actions:

• Failure to follow the terms and conditions of this test;

• Failure to exercise due diligence in the execution of participant obligations;

• Failure to abide by applicable laws and regulations that have not been waived; or

• Failure to deposit duties or fees in a timely manner.

If the Director, Trade Modernization Division (TMOD), Trade Policy and Programs (TPP), Office of Trade (OT), finds that there is a basis to discontinue a participant's participation in the test, then CBP will provide written notice, via email, proposing the discontinuance with a description of the facts or conduct supporting the proposal. The test participant will be offered the opportunity to respond to the Director's proposal in writing within 10 business days of the date of the written notice. The response must be forwarded to the TMOD Director, TPP, OT, by emailing GBI@cbp.dhs.gov, with a subject line reading “Appeal—GBI Discontinuance.”

The Director, TMOD, will issue a final decision in writing on the proposed action within 30 business days after receiving a timely-filed response from the test participant, unless such time is extended for good cause. If no timely response is received, the proposed notice becomes the final decision of CBP as of the date that the response period expires. A proposed discontinuance of a test participant's privileges will not take effect unless the response process under this paragraph has been concluded with a written decision that is adverse to the test participant, which will be provided via email.

J. Confidentiality

Data submitted and entered into ACE may include confidential commercial or financial information which may be protected under the Trade Secrets Act (18 U.S.C. 1905), the Freedom of Information Act (5 U.S.C. 552), and the Privacy Act (5 U.S.C. 552a). However, as stated in previous notices, participation in this or any of the previous ACE tests is not confidential and, therefore, upon receipt of a written Freedom of Information Act request, the name(s) of an approved participant(s) will be disclosed by CBP in accordance with 5 U.S.C. 552.

IV. Comments on the Test

All interested parties are invited to comment on any aspect of this test at any time. CBP requests comments and feedback on all aspects of this test, including the design, conduct and implementation of the test, in order to determine whether to modify, alter, expand, limit, continue, end, or fully implement this program. Comments should be submitted via email to GBI@cbp.dhs.gov, with the subject line reading “Comments/Questions on GBI EPoC.”

V. Paperwork Reduction Act

The Paperwork Reduction Act (PRA) of 1995 (44 U.S.C. 3507(d)) requires that CBP consider the impact of paperwork and other information collection burdens imposed on the public. An agency may not conduct, and a person is not required to respond to, a collection of information unless the collection of information displays a valid control number assigned by the Office of Management and Budget (OMB).

The collection of GBI information gathered under this test has been approved by OMB in accordance with the requirements of the PRA under OMB control number 1651-0141. In addition, the Entry/Immediate Delivery Application and ACE Cargo Release (CBP Form 3461 and 3461 ALT) collection of information, which collects the GBI when entry is made, has been approved by OMB under OMB control number 1651-0024.

VI. Evaluation Criteria

The test is intended to evaluate the feasibility of utilizing GBIs to address data gaps caused by the unreliability of the MID, in addition to exploring opportunities to enhance supply chain traceability and visibility more broadly—including examining how CBP, PGAs, and the trade industry might leverage GBIs to comply with growing supply chain traceability requirements. This will involve exploring the use of GBIs to accurately identify legal business entities, their different business locations and addresses, as well as their various functions and supply chain roles, based upon information derived from the unique D-U-N-S®, GLN, and LEI entity identifiers. The test will assist CBP in enforcing applicable laws and protecting the revenue, while fulfilling trade modernization efforts by assisting the agency in verifying the roles, functions and responsibilities that various entities play in a given participant's importation of merchandise. CBP's evaluation of the test, including the review of any comments submitted to CBP during the duration of the test, will be ongoing with a view to possible extension or expansion of the test.

CBP will evaluate whether the test: (1) improves foreign entity data for trade facilitation, enforcement, risk management, and statistical integrity; (2) ensures U.S. Government access to foreign entity data; (3) institutionalizes a global, managed identification system; (4) implements a cost-effective solution; (5) obtains stakeholder buy-in; and (6) facilitates legal compliance across the U.S. Government. At the conclusion of the test, an evaluation will be conducted to assess the efficacy of the information received throughout the course of the test. The final results of the evaluation will be published in the Federal Register as required by section 101.9(b)(2) of the CBP regulations (19 CFR 101.9(b)(2)).

Should the GBI EPoC be successful and ultimately be codified under the CBP regulations, CBP anticipates that this data would greatly enhance ongoing trade entity identification and resolution, reduce risk, and improve compliance operations. CBP would also anticipate greater supply chain visibility and additional information with which to verify and validate information on legal entities, which will support better decision-making during customs clearance processes.

AnnMarie R. Highsmith,
Executive Assistant Commissioner, Office of Trade.

[FR Doc. 2024-02788 Filed 2-9-24; 8:45 am]

BILLING CODE 9111-14-P